DEPARTMENT OF DEFENSE

Department of the Navy

Notice of Availability of Government-Owned Inventions; Available for Licensing

AGENCY: Department of the Navy, DoD

ACTION: Notice.

SUMMARY: The inventions listed below are assigned to the United States Government, as represented by the Secretary of the Navy and are available for domestic and foreign licensing by the Department of the Navy.

The following patents are available for licensing: Patent No. 9,430,189: VEHICLE DAMAGE DETECTION SYSTEM AND METHOD OF MANUFACTURING THE SAME//Patent No. 9,462,264: CHARACTERIZATION AND EVALUATION OF OPTICAL ELEMENTS UNDER VIBRATIONAL LOADING//Patent No. 9,425,580: MODULAR LASER SYSYTEM//Patent No. 9,425,803: APPARATUSES AND MATHODS FOR IMPLEMENTING VARIOUS PHYSICALLY UNCLONABLE FUNCTION (PUF) AND RANDOM NUMBER GENERATOR CAPABILITIES//Patent No. 9,250,159: WHISKER MANUFACTURING, DETECTION, RESPONSE, AND COMPOUND MANUFACTURING APPARATUS AND METHOD//Patent No. 9,423,229: IMPLODING BARREL INITIATOR AND RELATED METHODS//Patent No. 9,423,228: ADVANCED FRAGMENTATION HAND GRENADE//Patent No. 9,306,701: SCENE ILLUMINATOR//Patent No. 9,321,128: HIGH POWER LASER SYSTEM//Patent No. 9,322,872: CORRELATED TESTING SYSTEM//Patent No. 9,188,400: SYSTEM AND METHOD FOR CHARGING A WEAPON//Patent No. 9,235,378: VEHICLE DAMAGE DETECTION SYSTEM AND METHOD OF MANUFACTURING THE SAME//Patent No. 9,291,435: SHAPED CHARGE INCLUDING STRUCTURES AND COMPOSITIONS HAVING LOWER EXPLOSIVE CHARGE TO LINER MASS RATIO//Patent No. 9,325,073: APPRATUS FOR ASSEMBLING DIFFERENT CATEGOREIS OF MULTI-ELEMENT ASSEMBLIES TO PREDETERMINED TOLERANCES AND ALIGNMENTS USING A RECONFIGURABLE ASSEMBLING AND ALIGNMENT APPARATUS//Patent No. 9,456,483: FIELD PROGRAMMABLE MULTI-EMITTER//Patent No. 9,325,914: ELECTROMAGNETIC (EM) POWER DENSITY AND FIELD CHARACTERIZATION TECHNIQUE//Patent No. 9,423,069: PORTABLE EQUIPMENT SYSTEM MOUNT//Patent No. 9,417,286: SENSOR ENHANCEMENT THROUGH ALGORITHMIC ACQUISITION USING SYNCHRONIZATION WITH A SCAN GENERATOR//Patent No. 9,321,081: APPARATUS AND METHODS OF TUNING AND AMPLIFYING PIEZOELECTRIC SONIC AND ULTRASONIC OUTPUTS//Patent No. 9,326,384: PROCESS TO PRODUCE CONFORMAL NANO-COMPOSITE COATING FOR MITIGATION OF MANUFACTURING DEFECTS USING CHEMICAL VAPOR DEPOSITION AND NANO-STRUCTURES//Patent No. 9,079,544: ACCESSORY MOUNTING APPARATUS FOR A VEHICLE//Patent No. 9,321,079: PROCESS FOR MANUFACTURING A PLURALITY OF WAVE ENERGY EMITTERS//Patent No. 9,322,847: APPARATUS AND METHOD FOR INTEGRATED CIRCUIT FORENSICS//Patent No. 9,337,941: ANTENNA SYSTEMS AND METHODS FOR OVER-THE-AIR TRANSMITTER SIGNAL MEASUREMENT//and Patent No. 9,250,195: WHISKER MANUFACTURING, DETECTION, RESPONSE, AND COMPOUND MANUFACTURING APPARATUS AND METHOD.

ADDRESSES: Requests for copies of the patents cited should be directed to Naval Surface Warfare Center, Crane Div., Code OOL, Bldg. 2, 300 Highway 361, Crane, IN 47522-5001.

FOR FURTHER INFORMATION CONTACT: Mr. Christopher Monsey, Naval Surface Warfare Center, Crane Div., Code OOL, Bldg. 2, 300 Highway 361, Crane, IN 47522-5001, telephone 812-854-4100.

Authority: 35 U.S.C. 207, 37 CFR part 404.

Dated: December 5, 2016.
A.M. Nichols,
Lieutenant Commander, Judge Advocate General's Corps, U.S. Navy, Federal Register Liaison Officer.

[FR Doc. 2016-29510 Filed 12-8-16; 8:45 am]

BILLING CODE 3810-FF-P